FEDERAL COMMUNICATIONS COMMISSION

Technological Advisory Council Nominations

AGENCY: Federal Communications Commission.

ACTION: Public notice.

SUMMARY: This notice requests nominations for membership in the Federal Communications Commission's Technological Advisory Council (“Council”), which has been renewed for a second two-year term beginning December 11, 2000.

DATES: Nominations will be accepted until November 22, 2000.

ADDRESSES: Federal Communications Commission, 445 12th St. SW., Room 7-B452, Washington DC 20554.

FOR FURTHER INFORMATION CONTACT: Kent Nilsson at knilsson@fcc.gov or 202-418-0845.

SUPPLEMENTARY INFORMATION: Increasing innovation and rapid advances in technology have accelerated changes in the ways that telecommunications services are provided to, and accessed by, users of communications services. The FCC must stay abreast of future developments in communications and related technologies to fulfill its responsibilities under the Communications Act. The Technological Advisory Council, which held its first meeting on April 7, 1999, was designed to provide a mechanism by which a diverse array of distinguished technologists can meet and provide “cutting edge” advice to the FCC on technological innovations that are likely to affect electronic, optical, and radio communications and related industries.

Nominees and applicants for membership on the Council should have national, or international, reputations as leading technologists in their areas of expertise. In the case of nominees or applicants who are affiliated with private sector companies, nominees will frequently hold the title of Chief Scientist, or Chief Technology Officer; and in the case of academic and other research organizations, applicants and nominees will frequently hold an endowed professorship, or fellowship, or senior management or technical position within that research or development organization. Individuals may apply for, or nominate another individual for, membership on the Council. Each nomination or application must include:

(1) The name and title of the applicant or nominee and a description of the area, or areas, of expertise possessed by the applicant or nominee;

(2) The applicant's or nominee's mail address, e-mail address (where available), telephone number, and facsimile number;

(3) Reasons why the applicant or nominee should be appointed to the Council; and

(4) The basis for concluding that the applicant or nominee has achieved peer recognition as a technical expert.

The Technological Advisory Council has been organized as a Federal Advisory Committee under the Federal Advisory Committee Act, Public Law 92-463, 86 Stat. 770, as amended Public Law 94-409, section 5(c), Sept. 13, 1976, 90 Stat. 1247; 1977 Reorg. Plan No. 1, section 5F, 42 FR 56101, 91 Stat. 1634; Public Law 96-523, section 2, Dec. 12, 1980, 94 Stat. 3040; Public Law 97-375, title II, section 201(c), Dec. 21, 1982, 96 Stat. 1822. The Council, which was initially chartered on December 11, 1998, has been rechartered for an additional period that will expire on December 11, 2002. The Council will meet quarterly at the FCC which will provide facilities for those meetings. Members of the Council serve without Federal government compensation, and are not entitled to travel expenses, per diem or subsistence allowances. Nominations, and applications, for membership on the Council will be accepted through November 22, 2000.

Nominations and applications should be sent to Kent Nilsson, Network Technology Division, Office of Engineering and Technology, Federal Communications Commission, 445 12th Street, SW., Washington, DC 20554.

Federal Communications Commission.
Magalie Roman Salas,
Secretary.

[FR Doc. 00-29190 Filed 11-14-00; 8:45 am]

BILLING CODE 6712-01-P